GENERAL SERVICES ADMINISTRATION

41 CFR Part 101-26

[FPMR Amendment 2011-01; FPMR Case 2011-101-1; Docket Number 2011-017; Sequence 1]

RIN 3090-AJ19

Federal Property Management Regulation (FPMR); Procurement Sources and Programs

AGENCY: Office of Governmentwide Policy, General Services Administration (GSA).

ACTION: Final rule.

SUMMARY: The General Services Administration (GSA) is revising the Federal Property Management Regulation (FPMR) by removing the provisions regarding priorities for use of Government supply sources. Users may access the FPMR and any corresponding documents at GSA's Web site at http://www.gsa.gov/fmr and by clicking on “FPMR & Related Files” on the left-hand menu.

DATES: Effective Date: This final rule is effective November 1, 2011.

FOR FURTHER INFORMATION CONTACT: The Regulatory Secretariat (MVCB), 1275 First St., NE., Washington, DC 20417, (202) 501-4755, for information pertaining to status or publication schedules. For clarification of content, contact Mr. Robert Holcombe, Office of Travel, Transportation and Asset Management (MT), General Services Administration, at (202) 501-3828 or email at robert.holcombe@gsa.gov. Please cite FPMR Amendment 2011-01.

SUPPLEMENTARY INFORMATION:

A. Background

GSA is amending the FPMR (41 CFR Chapter 101) by removing the provisions regarding priorities for use of Government supply sources. The Federal Acquisition Regulation (FAR) is considered the primary regulation for use by all Federal executive agencies in their acquisition of supplies and services with appropriated funds; therefore, policies that repeat, paraphrase, or restate the FAR are unnecessary.

B. Executive Orders 12866 and 13563

Executive Orders (E.O.s) 12866 and 13563 direct agencies to assess all costs and benefits of available regulatory alternatives and, if regulation is necessary, to select regulatory approaches that maximize net benefits (including potential economic, environmental, public health and safety effects, distributive impacts, and equity). E.O. 13563 emphasizes the importance of quantifying both costs and benefits, of reducing costs, of harmonizing rules, and of promoting flexibility. This rule has been designated a “significant regulatory action” although not economically significant, under section 3(f) of Executive Order 12866. Accordingly, the rule has been reviewed by the Office of Management and Budget.

C. Regulatory Flexibility Act

This final rule will not have a significant economic impact on a substantial number of small entities within the meaning of the Regulatory Flexibility Act, 5 U.S.C. 601, et seq., because the revisions are not considered substantive. This final rule is also exempt from the Regulatory Flexibility Act per 5 U.S.C. 553(a)(2) because it applies to agency management or personnel. However, this final rule is being published to provide transparency in the promulgation of Federal policies.

D. Paperwork Reduction Act

The Paperwork Reduction Act does not apply because the final rule does not impose information collection requirements that require the approval of the Office of Management and Budget under 44 U.S.C. 3501, et seq.

E. Small Business Regulatory Enforcement Fairness Act

This final rule is exempt from Congressional review under 5 U.S.C. 801 since it relates solely to agency management and personnel.

List of Subjects in 41 CFR Part 101-26

Procurement sources and programs.

Dated: August 4, 2011.
Martha Johnson,
Administrator of General Services.

For the reasons set forth in the preamble, GSA amends 41 CFR Chapter 101 as follows:

CHAPTER 101—FEDERAL PROPERTY MANAGEMENT REGULATIONS

PART 101-26—PROCUREMENT SOURCES AND PROGRAMS

1. The authority for 41 CFR part 101-26 is amended to read as follows:

Authority: 40 U.S.C. 121(c).

§ 101-26.107 [Removed]

2. Remove § 101-26.107.

[FR Doc. 2011-27754 Filed 10-31-11; 8:45 am]

BILLING CODE 6820-14-P